DEPARTMENT OF TRANSPORTATION

Federal Aviation Administration

14 CFR Part 39

[Docket No. FAA-2004-19568; Directorate Identifier 2004-NM-112-AD; Amendment 39-14000; AD 2005-05-11]

RIN 2120-AA64

Airworthiness Directives; Dornier Model 328-300 Series Airplanes

AGENCY: Federal Aviation Administration (FAA), Department of Transportation (DOT).

ACTION: Final rule.

SUMMARY: The FAA is adopting a new airworthiness directive (AD) for certain Dornier Model 328-300 series airplanes. This AD requires performing repetitive inspections for discrepancies of the heat pack rotor assembly and rotor drive clips of the brake unit of the main landing gear (MLG), and replacing the assembly if any discrepancy is found. This AD is prompted by reports of cracking and breakage of the heat pack rotor assemblies. We are issuing this AD to find and fix discrepancies of the heat pack rotor assembly of the brake unit of the MLG and consequent loss of braking capability, which could result in the airplane overrunning the runway during take-off or landing.

DATES: This AD becomes effective April 18, 2005.

The incorporation by reference of a certain publication listed in the AD is approved by the Director of the Federal Register as of April 18, 2005.

ADDRESSES: For service information identified in this AD, contact AvCraft Aerospace GmbH, P.O. Box 1103, D-82230 Wessling, Germany.

Docket: The AD docket contains the proposed AD, comments, and any final disposition. You can examine the AD docket on the Internet at http://dms.dot.gov, or in person at the Docket Management Facility, U.S. Department of Transportation, 400 Seventh Street, SW., room PL-401, on the plaza level of the Nassif Building, Washington, DC. This docket number is FAA-2004-19568; the directorate identifier for this docket is 2004-NM-112-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain Dornier Model 328-300 series airplanes. That action, published in the Federal Register on November 12, 2004 (69 FR 65391), proposed to require performing repetitive inspections for discrepancies of the heat pack rotor assembly and rotor drive clips of the brake unit of the main landing gear (MLG), and replacing the assembly if any discrepancy is found.

Comments

We provided the public the opportunity to participate in the development of this AD. We have considered the comments that have been submitted on the proposed AD.

Request To Remove Certain Requirements

Two commenters advise that the actions specified in the proposed AD are already being done each time the MLG wheel is changed, as specified by job instruction card (JIC) 32-41-10-420-801-A01 for installing MLG wheels. According to the commenters, that JIC gives specific instructions for inspecting the brake rotor clips and fasteners and examining the rotors for splinters and cracks in the area of the clips. The commenters assert that the proposed AD would merely increase the burden of demonstrating AD compliance at every wheel change, creating more paper work without increasing the safety or reliability of the aircraft.

We infer that the commenters find the proposed AD unnecessary and request its withdraws. We do not agree. JIC procedures may vary from operator to operator, and operators are not required to comply with the actions specified in JICs. Therefore, AD action is necessary to ensure the safety of the fleet. therefore, we have not changed the final rule regarding this issue.

Conclusion

We have carefully reviewed the available data, including the comments that have been submitted, and determined that air safety and the public interest require adopting the AD as proposed.

Costs of Compliance

This AD affects about 49 airplanes of U.S. registry. The inspection will take about 1 work hour per airplane, at an average labor rate of $65 per work hour. Based on these figures, the estimated cost of the AD for U.S. operators is $3,185, or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. this regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-11 Fairchild Dornier GmbH (Formerly Dornier Luftfahrt GmbH): Amendment 39-14000. Docket No. FAA-2004-19568; Directorate Identifier 2004-NM-112-AD.

Effective Date

(a) This AD becomes effective April 18, 2005.

Affected ADs

(b) None.

Applicability

(c) This AD applies to Dornier Model 328-300 series airplanes; certificated in any category; equipped with a Dunlop brake unit having part number AHA2227-3 or -4.

Unsafe Condition

(d) This AD was prompted by reports of cracking and breakage of the heat pack rotor assemblies. We are issuing this AD to find and fix discrepancies of the heat pack rotor assembly of the brake unit of the main landing gear (MLG) and consequent loss of braking capability, which could result in the airplane overrunning the runway during take-off or landing.

Compliance

(e) You are responsible for having the actions required by this AD performed within the compliance times specified, unless the actions have already been done.

Repetitive Inspections/Replacement if Necessary

(f) At the next brake installation or within 24 months after the effective date of this AD, which is first: Accomplish a detailed inspection for discrepancies of the heat pack rotor assembly and rotor drive clips of the brake unit of the MLG by doing all the actions specified in the Accomplishment Instructions of Dornier Service Bulletin SB-328J-32-169, dated November 20, 2002. If any discrepancy is found, before further flight, replace the heat pack rotor assembly with a new assembly in accordance with the service bulletin. Repeat the inspection thereafter in intervals not to exceed the next brake installation or 24 months, whichever is first.

Note 1: Dorner Service Bulletin SB-328J-32-169 refers to Dunlap Aviation Service Bulletin AHA2227-32-1292, Revision 1, dated July 19, 2002, as an additional source of service information.

Note 2: For the purpose of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g) The Manager, International Branch, ANM-16, Transport Airplane Directorate, FAA, has the authority to approve AMOCs for this AD, if requested in accordance with the procedures found in 14 CFR 39.19.

Related Information

(h) German airworthiness directive D-2004-003, dated January 8, 2004, also addresses the subject of this AD.

Material Incorporated by Reference

(i) You must use Dorner Service Bulletin SB-328J-32-169, including the Price/Material Information Sheet, dated November 20, 2002, to perform the actions that are required by this AD, unless the AD specifies otherwise. The Director of the Federal Register approves the incorporation by reference of these documents in accordance with 5 U.S.C. 552(a) and 1 CFR part 51. For copies of the service information, contact AvCraft Aerospace GmbH, P.O. Box 1103, D-82230 Wessling, Germany. For information on the availability of this material at the National Archives and Records Administration (NARA), call (202) 741-6030, or go to http://www.archives.gov/federal_register/code_of_federal_regulations/ibr_locations.html.

You may view the AD docket at the Docket Management Facility, U.S. Department of Transportation, 400 Seventh Street SW., room PL-401, Nassif Building, Washngton, DC.

Issued in Renton, Washington, on February 28, 2005.
Ali Bahrami,
Manager, Transport Airplane Directorate, Aircraft Certification Service.

[FR Doc. 05-4413 Filed 3-11-05; 8:45 am]

BILLING CODE 4910-13-M